FEDERAL COMMUNICATIONS COMMISSION

Deletion of Items From Sunshine Act Meeting

August 4, 2016.

The following consent agenda has been deleted from the list of items scheduled for consideration at the Thursday, August 4, 2016, Open Meeting and previously listed in the Commission's Notice of July 28, 2016. Items 1 and 2 have been adopted by the Commission.

* * * * *

Consent Agenda

The Commission will consider the following subjects listed below as a consent agenda and these items will not be presented individually:

1 | MEDIA | TITLE: Atlantic City Board of Education, Applications for Renewal of License and Minor Modifications to WAJM(FM), Atlantic City, NJ SUMMARY: The Commission will consider a Memorandum Opinion and Order concerning the renewal of WAJM(FM), a student-run station and an Application for Review filed by Press Communications, LLC.
2 | MEDIA | TITLE: Amendment of Section 73.622(i), Post-Transition Table of DTV Allotments, Television Broadcast Stations (Seaford, Delaware) SUMMARY: The Commission will consider a Memorandum Opinion and Order concerning the Application for Review filed by PMCM, former licensee of KJWY(TV).
3 | GENERAL COUNSEL | TITLE: In the Matter of Warren Havens on Request for Inspection of Records (FOIA Control Nos. 2014-650, 2014-651, 2014-663, and 2014-664) SUMMARY: The Commission will consider a Memorandum Opinion and Order concerning an Application for Review filed by Warren Havens, which appealed two decisions by the Enforcement Bureau denying four Freedom of Information Act requests.

Federal Communications Commission.
Gloria Miles,
Federal Register Liaison Officer.

[FR Doc. 2016-18964 Filed 8-5-16; 11:15 am]

BILLING CODE 6712-01-P